DEPARTMENT OF THE INTERIOR

National Park Service

[NPS-WASO-NAGPRA-NPS0034491; PPWOCRADN0-PCU00RP14.R50000]

Notice of Inventory Completion: Department of Anthropology, Cornell University, Ithaca, NY

AGENCY: National Park Service, Interior.

ACTION: Notice.

SUMMARY: The Department of Anthropology, Cornell University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Cornell University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology, Cornell University at the address in this notice by October 12, 2022.

FOR FURTHER INFORMATION CONTACT: Matthew Velasco, Department of Anthropology, Cornell University, 261 McGraw Hall, Ithaca, NY 14853, telephone (607) 255-5137, email mcv47@cornell.edu.

SUPPLEMENTARY INFORMATION: Notice is here given in accordance with the Native American Graves Protection and Repatriation Act (NAGPRA), 25 U.S.C. 3003, of the completion of an inventory of human remains and associated funerary objects under the control of the Department of Anthropology, Cornell University, Ithaca, NY. The human remains and associated funerary objects were removed from Broome County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology, Cornell University professional staff in consultation with the Haudenosaunee Standing Committee on Burial Rules and Regulations and representatives of the Oneida Indian Nation (previously listed as Oneida Nation of New York); Onondaga Nation; Saint Regis Mohawk Tribe (previously listed as St. Regis Band of Mohawk Indians of New York); and the Tuscarora Nation.

History and Description of the Remains

In August of 1964, human remains representing, at minimum, three individuals were removed near the site of Onaquaga in Broome County, NY, during the digging of a waterline ditch. The property owner, Harry Springsteen, notified the local sheriff. Subsequently, Professor Kenneth A. R. Kennedy of Cornell University was asked to provide a forensic identification of the human remains. By September 8, 1964, Kennedy had completed a report that concluded the human remains belonged to a young adult male of Native American ancestry. Whether the human remains were transferred to Kennedy's laboratory immediately after their removal or were temporarily held by the Old Onaquaga Historical Society (OOHS) is unclear, but correspondence between R. Leone Jacob, then president of the OOHS, and Kennedy in May of 1966 concluded that the human remains would remain at Cornell University. After Kennedy's death in 2014, the human remains were transferred to the Department of Anthropology. Kennedy's original description of the human remains did not note the presence of additional skeletal remains belonging to two subadults of indeterminate sex, one of whom (represented by fragmentary postcranial remains) was less than 20 years old and the other (represented by a single bone) 4 years old or younger. No known individuals were identified. The 22 associated funerary objects are three pottery sherds (two of which are sand-tempered and cord-impressed), one piece of leather, one deer first phalanx, one deer radius fragment, one large mammal skull fragment, one large bird vertebra, one turtle scapula, one acorn, one black walnut, five unidentified seeds, two fragments of a plaster-like material, and four fragments of concrete or mortar.

Based on physical analysis and burial location, the human remains are determined to be Native American. The site of Onaquaga was a large multinational settlement located on the banks of the Susquehanna River near present-day Windsor, NY, in the traditional territory of the Oneida Indian Nation. Historical evidence indicates that members of many Nations, including the Oneidas, Tuscaroras, and Mohawks, frequented this village, and that other peoples likely took refuge there, too. The Oneidas were the primary occupants of Onaquaga in the 1600s and early 1700s, after which Tuscaroras began to arrive in greater numbers, followed by Mohawks. From the available evidence, it is not possible to conclusively determine the age of the human remains relative to the historical occupation of Onaquaga. The association of cord-impressed ceramic sherds, along with the presence of a rock covering over the grave (noted in a local news article at the time of removal), present the possibility that the human remains significantly predate A.D. 1700. Although the human remains from Onaquaga cannot be associated with a particular tribal group, given the geographic location of Onaquaga and the history of settlement there, they can be reasonably culturally affiliated with the Oneida Indian Nation (previously listed as Oneida Nation of New York); Onondaga Nation; Saint Regis Mohawk Tribe (previously listed as St. Regis Band of Mohawk Indians of New York); and Tuscarora Nation.

Determinations Made by the Department of Anthropology, Cornell University

Officials of the Department of Anthropology, Cornell University have determined that:

• Pursuant to 25 U.S.C. 3001(9), the human remains described in this notice represent the physical remains of three individuals of Native American ancestry.

• Pursuant to 25 U.S.C. 3001(3)(A), the 22 objects described in this notice are reasonably believed to have been placed with or near individual human remains at the time of death or later as part of the death rite or ceremony.

• Pursuant to 25 U.S.C. 3001(2), there is a relationship of shared group identity that can be reasonably traced between the Native American human remains and associated funerary objects and the Oneida Indian Nation (previously listed as Oneida Nation of New York); Onondaga Nation; Saint Regis Mohawk Tribe (previously listed as St. Regis Band of Mohawk Indians of New York); and the Tuscarora Nation (hereafter referred to as “The Tribes”).

Additional Requestors and Disposition

Lineal descendants or representatives of any Indian Tribe or Native Hawaiian organization not identified in this notice that wish to request transfer of control of these human remains and associated funerary objects should submit a written request with information in support of the request to Matthew Velasco, Department of Anthropology, Cornell University, 261 McGraw Hall, Ithaca, NY 14853, telephone (607) 255-5137, email mcv47@cornell.edu, by October 12, 2022. After that date, if no additional requestors have come forward, transfer of control of the human remains and associated funerary objects to The Tribes may proceed.

The Department of Anthropology, Cornell University is responsible for notifying The Tribes that this notice has been published.

Dated: September 1, 2022.
Melanie O'Brien,
Manager, National NAGPRA Program.

[FR Doc. 2022-19617 Filed 9-9-22; 8:45 am]

BILLING CODE 4312-52-P